DEPARTMENT OF THE INTERIOR

National Park Service

[NPS-WASO-NAGPRA-NPS0039428; PPWOCRADN0-PCU00RP14.R50000]

Notice of Inventory Completion: University of Miami, Coral Gables, FL

AGENCY: National Park Service, Interior.

ACTION: Notice.

SUMMARY: In accordance with the Native American Graves Protection and Repatriation Act (NAGPRA), the University of Miami has completed an inventory of human remains and has determined that there is a cultural affiliation between the human remains and Indian Tribes or Native Hawaiian organizations in this notice.

DATES: Repatriation of the human remains in this notice may occur on or after April 16, 2025.

ADDRESSES: Dr. Traci Ardren, Interim Department Chair, University of Miami, Anthropology Department, 5202 University Drive, Merrick Building Room 102, Coral Gables, FL 33146, telephone (305) 284-2535, email tardren@miami.edu.

SUPPLEMENTARY INFORMATION: This notice is published as part of the National Park Service's administrative responsibilities under NAGPRA. The determinations in this notice are the sole responsibility of the University of Miami, and additional information on the determinations in this notice, including the results of consultation, can be found in its inventory or related records. The National Park Service is not responsible for the determinations in this notice.

Abstract of Information Available

Human remains representing, at least, 30 individuals have been identified; a total of 474 skeletal elements were documented. No associated funerary objects are present. The human remains were salvaged from the submerged spring basin and adjacent wetland deposits at the Little Salt Spring Site in Sarasota County, Florida (sites 8SO18 and 8SO79, respectively); the site is listed on the National Register of Historic Places. Limited underwater archaeological test excavations occurred sporadically at the site from 1975 and continued into the early 2000s. Based on radiocarbon testing, human remains date to the archaeologically documented Archaic Period culture of the southeastern United States, and specifically that of the middle Archaic in Florida. The human remains are currently housed at the Department of Anthropology at the University of Miami. There is no known presence of any potentially hazardous substances.

Cultural Affiliation

Based on the information available and the results of consultation, cultural affiliation is reasonably identified by the geographical location or acquisition history of the human remains.

Determinations

The University of Miami has determined that:

• The human remains described in this notice represent the physical remains of 30 individuals of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 16, 2025. If competing requests for repatriation are received, the University of Miami must determine the most appropriate requestor prior to repatriation. Requests for joint repatriation of the human remains are considered a single request and not competing requests. The University of Miami is responsible for sending a copy of this notice to the Indian Tribes and Native Hawaiian organizations identified in this notice.

Authority: Native American Graves Protection and Repatriation Act, 25 U.S.C. 3003, and the implementing regulations, 43 CFR 10.10.

Dated: January 28, 2025.
Melanie O'Brien,
Manager, National NAGPRA Program.

[FR Doc. 2025-04170 Filed 3-14-25; 8:45 am]

BILLING CODE 4312-52-P